DEPARTMENT OF JUSTICE

Notice of Lodging of Consent Decree Pursuant to the Clean Water Act

In accordance with Departmental policy, including 28 CFR 50.7, notice is hereby given that a proposed Consent Decree in United States of America and State of Louisiana v. City of Baton Rouge and Parish of East Baton Rouge, Civil Action No. 01-978-B-M-3, was lodged on November 13, 2001, with the United States District Court for the Middle District of Louisiana.

The proposed Consent Decree settles an action brought under Clean Water Act (“CWA”) Section 301, 33 U.S.C. 1311, for civil penalties and injunctive relief for violations related to the publicly owned treatment works owned and operated by the City/Parish. The Consent Decree resolves all claims in the Complaint and provides for injunctive relief, a civil penalty of $729,500; a $1.125 million supplemental environmental project that will connect certain neighborhoods to the sewage treatment system; and payment $216,000 in stipulated penalties which accrued under a prior Consent Decree. The injunctive relief will require the City/Parish to implement specified projects including a 13-15 year project to improve its sewage collection system, a Sanitary Sewer Overflow Response Plan to protect the public health by responding to overflows, and an extensive preventive maintenance program.

The Department of Justice will receive comments relating to the proposed Consent Decree for a period of thirty (30) days from the date of this publication. As a result of the discovery of anthrax contamination at the District of Columbia mail processing center in mid-October 2001, the delivery of regular first-class mail sent through the U.S. Postal Service has been disrupted. Consequently, public comments which are addressed to the Department of Justice in Washington, DC, and sent by regular, first-class mail through the U.S. Postal Service are not expected to be received in timely manner. Therefore, comments should be addressed to the Assistant Attorney General, Environment and Natural Resources Division, Department of Justice, and sent: (1) c/o United States Attorneys Office, Middle District of Louisiana, 777 Florida St., Ste 208, Baton Rouge, LA 70801, Attention: John Gaupp; and/or (2) by facsimile to (202) 353-0296; and/or (3) by overnight delivery, other than through the U.S. Postal Service, to Chief, Environmental Enforcement Section, 1425 New York Avenue, NW., 13th Floor, Washington, DC 20005. Each communication should refer on its face to United States and Louisiana v. Baton Rouge, No. 01-978-B-M-3 (M.D. La.), DOJ Ref. # 90-5-1-1-2769/1.

Notice of this Consent Decree was previously published at 66 FR 66931 (2001), and, that notice instructed commenters to send comments via the U.S. Postal Service to P.O. Box 7611, Washington, DC 20044-7611. Due to the same mail delivery problems referred to in the previous paragraph, any comments submitted pursuant to the previous notice through the U.S. Postal Service are not expected to be received in a timely manner. In order to ensure that all comments are considered, any persons who submitted comments via the U.S. Postal Service pursuant to the previous notice are advised to resubmit those comments by one of the methods specified in the previous paragraph.

The proposed Consent Decree may be examined at the office of the United States Attorney for the Middle District of Louisiana, 777 Florida St., Ste 208, Baton Rouge, LA 70801, and at the Region 6 office of the Environmental Protection Agency, 1445 Ross Avenue, Dallas, Texas 75202. A copy of the proposed Consent Decree may also be obtained by faxing a request to Tonia Fleetwood, Department of Justice Consent Decree Library, fax no. (202) 616-6584; phone confirmation no. (202) 514-1547. There is a charge for the copy (25 cent per page reproduction cost). Upon requesting a copy, please mail a check in the amount of $67.75 payable to the “U.S. Treasury” to: Consent Decree Library, U.S. Department of Justice, P.O. Box 7611, Washington, DC 20044-7611. The check should refer to United States and Louisiana v. Baton Rouge, No. 01-978-B-M-3 (M.D. La.), DOJ Ref. # 90-5-1-2769/1.

Thomas A. Mariani, Jr.,
Assistant Chief, Environmental Enforcement Section, Environment and Natural Resources Division.

[FR Doc. 02-1298 Filed 1-17-02; 8:45 am]

BILLING CODE 4410-15-M